DEPARTMENT OF HEALTH AND HUMAN SERVICES

National Institutes of Health

National Institute on Aging; Amended Notice of Meeting

Notice is hereby given of a change in the meeting of the National Institute on Aging Special Emphasis Panel, March 23, 2022, 11:30 a.m. to March 23, 2022, 02:30 p.m., National Institute on Aging, Gateway Building, 7201 Wisconsin Avenue, Bethesda, MD 20892, which was published in the Federal Register on December 28, 2021, FR Doc. 2021-28091, 86 FR 73792.

The meeting notice is amended to change the Contact Person from: Anita H. Undale, MD, Ph.D., Scientific Review Officer, Scientific Review Branch, National Institute on Aging, National Institutes of Health, Gateway Building, Suite 2W200, 7201 Wisconsin Avenue, Bethesda, MD 20892, 301-827-7428, anita.undale@nih.gov to Bita Nakhai, Ph.D., Scientific Review Officer, Scientific Review Branch, National Institute on Aging, National Institutes of Health, Gateway Bldg., 2C212, 7201 Wisconsin Avenue, Bethesda, MD 20892, 301-402-7701, nakhaib@nia.nih.gov. The meeting is closed to the public. The meeting is closed to the public.

Dated: January 31, 2022.
Miguelina Perez,
Program Analyst, Office of Federal Advisory Committee Policy.

[FR Doc. 2022-02334 Filed 2-3-22; 8:45 am]

BILLING CODE 4140-01-P